DEPARTMENT OF HEALTH AND HUMAN SERVICES

Centers for Disease Control and Prevention

Availability of Government-Owned Inventions for Licensing

AGENCY: Centers for Disease Control and Prevention, Department of Health and Human Services.

ACTION: Notice.

SUMMARY: The inventions named in this notice are owned by agencies of the United States Government and are available for licensing in the United States (U.S.), In accordance with 35 U.S.C. 207, to achieve expeditious commercialization of results of federally funded research and development. Foreign patent applications are filed on selected inventions to extend market coverage for U.S. companies and may also be available for licensing.

ADDRESSES: Licensing information and copies of the U.S. patent applications listed below may be obtained by writing to Thomas E. O'Toole, M.P.H., Deputy Director, Technology Transfer Office, Centers for Disease Control and Prevention (CDC), Mailstop K-79, 1600 Clifton Road, Atlanta, GA 30333, telephone (770) 488-8611; facsimile (770) 488-8615; or email tto@cdc.gov. A signed Confidential Disclosure Agreement will be required to receive copies of unpublished patent applications.

A Candidate DNA Vaccine Expressing West Nile Premembrane and Envelope Proteins Protects Mouse and Horse from Virus Challenge (CDC Ref. # I-001-01/0), U.S. Patent SN: 09/826,115

Monoclonal Antibodies against Fungi and Methods for Their Use (CDC Ref. # I-002-01/0), U.S. Patent SN 60/311,458

Work Force Information Zone—Web Portal (CDC Ref. #: I-004-01/0)

Isocyanate Derivatizing Agent and Methods of Production and Use (CDC Ref. #: I-005-97/1), U.S. Patent SN:09/700,155

Multicoupon Biofilm CFSTR (CDC Ref. #: I-006-01/0)

Wearable Kneel-Sit Support Device (CDC Ref. #: I-007-01/0), U.S. Patent SN: 60/300,315

Colorimetric Artemisinin and Artemisinin Derivatives Assay and Assay Kit (CDC Ref. #: I-008-01/0), U.S. Patent SN: 60/334,387

Methods for the Prevention and Treatment of Diseases Caused by an Inflammatory Response (CDC Ref. #: I-009-98/1), U.S. Patent SN: 09/889,317

Quartz Application Package (QUARTZ-PACK) (CDC Ref. #: I-010-01/0)

Pulse-field Gel Electrophoresis (PFGE) Pattern from Two Salmonella Branderup Strains (CDC Ref. #: I-011-01/0)

Radio Frequency Safety System to Protect Workers from Caught-In Injury (CDC Ref. #: I-014-01/0)

DNA Expression Vectors and Methods of Use (CDC Ref. #: I-015-01/0), PCT/US01/06795

Anti-sense Oligonucleotide Silencing Technique to Prevent beryllium Sensitization and Disease (CDC Ref. #: I-016-01/0)

Method and Apparatus for Load Rate Monitoring (CDC Ref. #: I-016-98/1), U.S. Patent SN: 09/673,599

Rock Bolt with Strain Detection and Compact Data Logger (CDC Ref. #: I-017-01/0)

Mobile Load Handling Apparatus (CDC Ref. #: I-018-01/0)

Methods and Reagents for Molecular Detection of HIV-1 Groups M, N and O (CDC Ref. #: I-020-98/1)

sigE-induced Mycobacterium tuberculosis Vaccine (CDC Ref. #: I-024-01/0)

Sup T-1 Derived Cell Lines Which Affect the HIV Life Cycle from Normal Sup T-1 cells (CDC Ref. #: I-025-01/0)

Macroaggregated Albumin-Polyethyleneimine (MAA-PEI) Lung-Targeted Delivery of RSV DNA Vaccines (CDC Ref. #: I-026-01/0)

The Submicrometer Aerosol Monitor (SAM) (CDC Ref. #: I-027-01/0 [combined under I-033-01/0])

The Development of DNA Probes for the Identification and Diagnosis of Infections Caused by Dimorphic Fungi (CDC Ref. #: I-030-01/0)

An Electric Power Line Contact Alarm for Mobile Equipment (CDC Ref. #: I-032-01/0)

The Combination Respirable Dust and Sub-micrometer Particle Monitor (CDC Ref. #: I-033-01/0 (combined with I-027-01/0 under I-033-01/0))

Recombinant P37/FlaA As a Diagnostic Reagent (CDC Ref. #: I-046-00/0)

Recombinant P37/FlaA as a Diagnostic Reagent (CDC Ref. #: I-046-00/1)

Dated: June 12, 2002.
James D. Seligman,
Associate Director for Program Services, Centers for Disease Control and Prevention (CDC).

[FR Doc. 02-15542 Filed 6-19-02; 8:45 am]

BILLING CODE 4163-18-P